DEPARTMENT OF DEFENSE

Office of the Secretary

Renewal of Department of Defense Federal Advisory Committees

AGENCY: DoD.

ACTION: Renewal of Federal Advisory Committee.

SUMMARY: The Department of Defense is publishing this notice to announce that it is renewing the charter for the Department of Defense Military Family Readiness Council (“the Council”).

FOR FURTHER INFORMATION CONTACT: Jim Freeman, Advisory Committee Management Officer for the Department of Defense, 703-692-5952.

SUPPLEMENTARY INFORMATION: This Council's charter is being renewed under the provisions of 10 U.S.C. 1781a, as amended, the Federal Advisory Committee Act of 1972 (5 U.S.C. Appendix, as amended), the Government in the Sunshine Act of 1976 (5 U.S.C. 552b) (“the Sunshine Act”), and 41 CFR 102-3.50(a).

The Council is a statutory Federal advisory committee that will review and make recommendations to the Secretary of Defense regarding the policy and plans required under 10 U.S.C. 1781b, monitor requirements for the support of military family readiness by the Department of Defense (DoD), and evaluate and assess the effectiveness of the military family readiness programs and activities of the DoD.

The Council, no later than February 1st of each year, shall submit a report to the Secretary of Defense and the congressional defense committees on military family readiness. Each report, at a minimum, will include the following:

a. An assessment of the adequacy and effectiveness of the military family readiness programs and activities of the DoD during the preceding fiscal year in meeting the needs and requirements of military families.

b. Recommendations on actions to be taken to improve the capability of the military family readiness programs and activities of the DoD to meet the needs and requirements of military families, including actions relating to the allocation of funding and other resources to and among such programs and activities.

The annual report referenced above will be submitted to the Secretary of Defense and the congressional defense committees. The Under Secretary of Defense for Personnel and Readiness (USD(P&R)), pursuant to DoD policy, may act upon the Council's advice and recommendations. The DoD, through the Office of the USD(P&R), provides support, as deemed necessary, for the Council's performance and functions, and ensures compliance with the requirements of the FACA, the Government in the Sunshine Act of 1976 (5 U.S.C. 552b, as amended) (“the Sunshine Act”), governing Federal statutes and regulations, and established DoD policies and procedures.

The Council, pursuant to 10 U.S.C. 1781a, as amended, will be composed of 18 members, appointed as specified below:

a. The USD(P&R), who shall serve as chair of the Council. The Principal Deputy Under Secretary of Defense for Personnel and Readiness, as approved by the Secretary of Defense, may, in the absence of the USD(P&R), serve as the Council's chair with all rights and privileges thereunto.

b. One representative from each of the Army, Navy, Marine Corps, and Air Force, each of whom shall be a member of the armed force to be represented.

c. The Secretary of Defense has approved the following ex officio appointments for a two-year term of service with annual renewals:

1. Army—the Assistant Chief of Staff for Installation Management;

2. Navy—the Chief of Naval Personnel;

3. Air Force—the Deputy Chief of Staff for Manpower and Personnel; and

4. Marine Corps—the Deputy Commandant for Manpower and Reserve Affairs.

d. One representative of the Army National Guard or the Air National Guard, who may be a member of the National Guard.

The Secretary of Defense, based upon the recommendation of the Chief, National Guard Bureau through the USD(P&R) shall appoint one individual to serve on the Council. If the Secretary appoints a person who is a full-time or permanent part-time Federal employee, then that individual will be appointed as a regular government employee (RGE) member. If the Secretary appoints a person who is not a full-time or permanent part-time federal officer or employee or a member of the Army or Air National Guard, then that individual will be appointed as an expert or consultant under the authority of 5 U.S.C. 3109 to serve as a special government employee (SGE) member. Representation on the Council will rotate between the Army National Guard and Air National Guard every two years on a calendar year basis with annual renewals.

a. One spouse or parent of a member of each of the Army, Navy, Marine Corps, and Air Force, two of whom shall be the spouse or parent of an active component member and two of whom shall be the spouse or parent of a reserve component member.

The Secretary of Defense shall appoint these individuals based upon the recommendation of the USD(P&R). Spouse or parent nominees of Regular Component members shall begin with the Army and Navy followed by the Air Force and Marine Corps. Spouse or parent nominees of Reserve Component members shall begin with the Air Force and Marine Corps followed by the Army and the Navy. A spouse or parent of a member of the Regular or Reserve Component appointed by the Secretary of Defense, unless he or she is a full-time or permanent part-time Federal officer or employee, will be appointed to the Council as an expert or consultant under the authority of 5 U.S.C. 3109 and serve as a SGE member. The term of service for these members shall be two years with annual renewals.

b. Three individuals appointed by the Secretary of Defense from among representatives of military family organizations, including military family organizations of families of members of the regular components and families of members of the reserve components.

For the period 2012-2015, the following military family organizations are invited to serve on the Council: The National Military Family Association, the American Red Cross, and the Blue Star Families. Individuals appointed by the Secretary of Defense from these three organizations who are not full-time or permanent part-time federal officers or employees shall be appointed as experts or consultants under the authority of 5 U.S.C. 3190 to serve as a SGE member. The term of service shall be three years with annual renewals.

c. The senior enlisted advisors from each of the Army, Navy, Marine Corps, and Air Force, except that two of these members may instead be selected from among the spouses of the senior enlisted advisors.

The Secretary of Defense shall appoint two Senior Enlisted Advisors beginning with the Navy and Marine Corps and followed by the Army and Air Force. The Secretary of Defense shall appoint two spouses of Senior Enlisted Advisers beginning with the Army and Air Force and followed by the Navy and Marine Corps. A spouse of a Senior Enlisted Advisor of the Army, Navy, Air Force or Marine Corps appointed by the Secretary of Defense, unless he or she is a full-time or permanent part-time Federal officer or employee, shall be appointed to the Council as an expert or consultant under the authority of 5 U.S.C. 3109 and serve as a SGE member. The term of service for Senior Enlisted Advisors shall be two years with annual renewals. The term of service for spouses of Senior Enlisted Advisors shall be either two years or until the conclusion of the Service member's tour of duty as Senior Enlisted Advisor during which the spouse was appointed to the Council, whichever is earlier, with annual renewals.

d. The Director of the Office of Community Support for Military Families with Special Needs (“the Director”).

The Director is appointed as a regular government (ex officio) member of the Council. The Director may send someone to attend a council meeting if he or she is unable to attend; however, this person will not engage in Council deliberations, vote on matters before the Council, or count toward a quorum.

Council members are not compensated for service on the Council, but each member is reimbursed for travel and per diem as it pertains to official business of the Council. The DoD, when necessary and consistent with the Council's mission and DoD policies and procedures, may establish subcommittees, task forces, or working groups to support the Council. Establishment of subcommittees will be based upon a written determination, to include terms of reference, by the Secretary of Defense, the Deputy Secretary of Defense, or the USD(P&R), as the DoD Sponsor.

Such subcommittees will not work independently of the Council, and will report all of their recommendations and advice solely to the Council for full and open deliberation and discussion. Subcommittees, task forces, or working groups have no authority to make decisions and recommendations, verbally or in writing, on behalf of the Council. No subcommittee or any of its members can update or report, verbally or in writing, on behalf of the Council, directly to the DoD or any Federal officer or employee.

All subcommittee members must be appointed by the Secretary of Defense or the Deputy Secretary of Defense to a term of service of one-to-four years, with annual renewals, even if the individual in question is already a member of the Council, and no subcommittee member will serve more than two consecutive terms of service, unless authorized by the Secretary of Defense of the Deputy Secretary of Defense. Subcommittee members who are not full-time or permanent part-time Federal employees will be appointed as experts or consultants pursuant to 5 U.S.C. 3109, to serve as SGE members. Subcommittee members who are full-time or permanent part-time Federal employees will be appointed pursuant to 41 CFR 102-3.130(a), to serve as a RGE member. With the exception of reimbursement of official travel and per diem related to the Council or its subcommittees, subcommittee members will serve without compensation. All subcommittees operate under the provisions of FACA, the Sunshine Act, governing Federal statutes and regulations, and established DoD policies and procedures.

The Council's DFO must be a full-time or permanent part-time DoD employee, appointed in accordance with established DoD policies and procedures.

The Council's DFO is required to attend all meetings of the Council and its subcommittees for the entire duration of each and every meeting. However, in the absence of the Council's DFO, a properly approved Alternate DFO, duly appointed to the Council according to established DoD policies and procedures, must attend the entire duration of all meetings of the Council and its subcommittees.

The DFO, or the Alternate DFO, shall call all meetings of the Council and its subcommittees; prepares and approves all meeting agendas; and adjourn any meeting when the DFO, or the Alternate DFO, determines adjournment to be in the public interest or required by governing regulations or DoD policies and procedures.

Pursuant to 41 CFR 102-3.105(j) and 102-3.140, the public or interested organizations may submit written statements to Department of Defense Military Family Readiness Council membership about the Council's mission and functions. Written statements may be submitted at any time or in response to the stated agenda of planned meeting of Department of Defense Military Family Readiness Council.

All written statements shall be submitted to the DFO for the Department of Defense Military Family Readiness Council, and this individual will ensure that the written statements are provided to the membership for their consideration. Contact information for the Department of Defense Military Family Readiness Council DFO can be obtained from the GSA's FACA Database— http://www.facadatabase.gov/.

The DFO, pursuant to 41 CFR 102-3.150, will announce planned meetings of the Department of Defense Military Family Readiness Council. The DFO, at that time, may provide additional guidance on the submission of written statements that are in response to the stated agenda for the planned meeting in question.

Dated: December 4, 2014.
Aaron Siegel,
Alternate OSD Federal Register Liaison Officer, Department of Defense.

[FR Doc. 2014-28795 Filed 12-8-14; 8:45 am]

BILLING CODE 5001-06-P